DEPARTMENT OF AGRICULTURE

Submission for OMB Review; Comment Request

September 2, 2008.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Restricted and Controlled Animal and Poultry Products and Byproducts,Organisms, and Vectors into the U.S.

OMB Control Number: 0579-0015.

Summary of Collection: Disease prevention is the most effective method for maintaining a healthy animal population and enhancing the Animal and Plant Health Inspection Service (APHIS) ability to compete in the world market of animals and animal products trade. The Veterinary Service, a program in APHIS, enforces regulations that pertain to the importation of restricted animal byproducts and controlled materials into the United States and the prevention of foreign animal disease incursions into the United States. The regulations under which APHIS conducts these disease prevention activities are contained in Title 9, Chapter 1, Subchapter D, Parts 94, 95, and 122 of the Code of Federal Regulations. APHIS collects information using several forms.

Need and Use of the Information: APHIS will collect information to ensure that imported items do not present a disease risk to the livestock and poultry populations of the United States. The information collected will provide APHIS with critical information concerning the origin and history of the items destined for importation into the United States. Without the information, the United States would be at risk of an exotic disease incursion.

Description of Respondents: Business or other for-profit; Individuals or households; Not for-profit institutions; Foreign Government.

Number of Respondents: 10,386.

Frequency of Responses: Recordkeeping; Reporting; On occasion.

Total Burden Hours: 22,986.

Animal and Plant Health Inspection Service

Title: Endangered Species Regulations and Forfeiture Procedures.

OMB Control Number: 0579-0076.

Summary of Collection: The Endangered Species Act of 1973 (16 U.S.C. 1513 et seq.) directs Federal departments to utilize their authorities under the Act to conserve endangered and threatened species. Section 3 of the Act specifies that the Secretary of Agriculture is authorized to promulgate such regulations as may be appropriate to enforce the Act. The regulations contained in 7 CFR 355 are intended to carry out the provisions of the Act. The Plant Protection and Quarantine (PPQ) division of USDA's Animal & Plant Health Inspection Service (APHIS) is responsible for implementing these regulations. Specifically, Section 9(d) of the Act authorizes 7 CFR 355.11, which requires a general permit to engage in the business of importing or exporting terrestrial plants listed in 50 CFR Parts 17 and 23. APHIS will collect information using several PPQ forms.

Need and Use of the Information: APHIS will collect information on the applicant's name and address, whether the applicant is affiliated with a business, and the address of all the applicant's business locations in order for the applicant to obtain a general permit. Upon approval of the permit, any endangered species shipped via mail must be sent to an authorized port of entry and must be accompanied by appropriate supporting documentation.

Description of Respondents: Business or other for-profit, individuals or households.

Number of Respondents: 16,584.

Frequency of Responses: Recordkeeping; Reporting: On occasion.

Total Burden Hours: 8,533.

Animal and Plant Health Inspection Service

Title: Hawaiian and Territorial Quarantine Notices.

OMB Control Number: 0579-0198.

Summary of Collection: Under the Plant Protection Act (7 U.S.C. 7701-7772), the Secretary of Agriculture is authorized to prohibit or restrict the importation, entry, or movement of plants and plant products to prevent the introduction of plant pest into the United States or their dissemination within the United States. The Plant Protection and Quarantine, a program within the Animal and Plant Health Inspection Service (APHIS), is responsible for implementing the Act and does so through the enforcement of its Hawaiian and territorial quarantine regulations, contained in Part 318 of Title 7, Code of Federal Regulations. Hawaiian and territorial quarantines are necessary to prevent the spread of dangerous plant diseases and pests. APHIS will collect information using several forms.

Need and Use of the Information: APHIS will collect information from a variety of individuals who are involved in growing, packing, handling, and transporting plants and plant products. The information collected will be used to determine compliance with regulations and for issuance of forms, permits, certificates, and other required documents.

Description of Respondents: Business or other for-profit, and farms.

Number of Respondents: 1,129.

Frequency of Responses: Reporting: On occasion.

Total Burden Hours: 986.

Ruth Brown,
Departmental Information Collection Clearance Officer.

[FR Doc. E8-20608 Filed 9-4-08; 8:45 am]

BILLING CODE 3410-34-P